DEPARTMENT OF THE INTERIOR

Fish and Wildlife Service

Endangered Species Recovery Permit Applications

AGENCY: Fish and Wildlife Service, Interior.

ACTION: Notice of receipt of permit applications; request for comment.

SUMMARY: We invite the public to comment on the following applications to conduct certain activities with endangered species.

DATES: Comments on these permit applications must be received on or before October 26, 2006.

ADDRESSES: Written data or comments should be submitted to the U.S. Fish and Wildlife Service, Chief, Endangered Species, Ecological Services, 911 NE. 11th Avenue, Portland, Oregon 97232-4181 (telephone: 503-231-2063; fax: 503-231-6243). Please refer to the respective permit number for each application when submitting comments. All comments received, including names and addresses, will become part of the official administrative record and may be made available to the public.

FOR FURTHER INFORMATION CONTACT: Linda Belluomini, Fish and Wildlife Biologist, at the above Portland address, (telephone: 503-231-2063; fax: 503-231-6243).

SUPPLEMENTARY INFORMATION: The following applicants have applied for scientific research permits to conduct certain activities with endangered species pursuant to section 10(a)(1)(A) of the Endangered Species Act (16 U.S.C. 1531 et seq.). The U.S. Fish and Wildlife Service (“we”) solicits review and comment from local, State, and Federal agencies, and the public on the following permit requests.

Permit No. TE-132849

Applicant: Thomas R. Payne & Associates, Arcata, California

The applicant requests a permit to take (harass by survey, capture, handle, and release) the tidewater goby (Eucyclogobius newberryi) in conjunction with surveys throughout the range of the species in California for the purpose of enhancing its survival.

Permit No. TE-744878

Applicant: Institute for Wildlife Studies, Arcata, California

The permittee requests an amendment to take (conduct diagnostic tests) the Santa Cruz Island fox (Urocyon littoralis santacruzae) and the Santa Catalina Island fox (Urocyon littoralis catalinae) in conjunction with allergen testing for the purpose of enhancing their survival throughout the range of the species in California.

Permit No. TE-134367

Applicant: Loren R. Hays, Huntington Beach, California

The applicant requests a permit to take (harass by survey, locate and monitor nests) the light-footed clapper rail (Rallus longirostris levipes), the California least tern (Sternula antillarum browni), the southwestern willow flycatcher (Empidonax traillii extimus), and the least Bell's vireo (Vireo bellii pusillus) in conjunction with surveys and monitoring throughout the range of the species in California for the purpose of enhancing their survival.

Permit No. TE-134332

Applicant: Andrew S. Drummond, San Diego, California

The applicant requests a permit to take (survey by pursuit) the Quino checkerspot butterfly (Euphydryas editha quino) in conjunction with surveys throughout the range of the species in California for the purpose of enhancing its survival.

Permit No. TE-134333

Applicant: California State University, Chico, California

The applicant requests a permit to take (capture, handle, release, and harass by survey) the California tiger salamander (Ambystoma californiense) in conjunction with population monitoring in Sonoma and Santa Barbara Counties, California, for the purpose of enhancing its survival.

Permit No. TE-134334

Applicant: Lincoln Hulse, Mission Viejo, California

The applicant requests a permit to take (capture and release) the Stephens' kangaroo rat (Dipodomys stephensi), the San Bernardino kangaroo rat (Dipodomys merriami parvus), and the Pacific pocket mouse (Perognathus longimembris pacificus) in conjunction with surveys throughout the range of the species in California for the purpose of enhancing their survival.

Permit No. TE-134337

Applicant: Christopher M. Powers, Carlsbad, California

The applicant requests a permit to take (capture, and collect and kill) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species in California for the purpose of enhancing their survival.

Permit No. TE-134338

Applicant: Brenna A. Ogg, San Diego, California

The applicant requests a permit to take (survey by pursuit) the Quino checkerspot butterfly (Euphydryas editha quino) in conjunction with surveys throughout the range of the species in California for the purpose of enhancing its survival.

Permit No. TE-134370

Applicant: Brant C. Primrose, San Diego, California

The applicant requests a permit to take (survey by pursuit) the Quino checkerspot butterfly (Euphydryas editha quino) in conjunction with surveys throughout the range of the species in California for the purpose of enhancing its survival.

Permit No. TE-134347

Applicant: California Department of Parks and Recreation, Mendocino, California

The applicant requests a permit to take (harm, harass) the Point Arena mountain beaver (Aplodontia rufa nigra) and the Behren's silverspot butterfly (Speyeria zerene behrensii) in conjunction with habitat restoration activities in Mendocino County, California, for the purpose of enhancing their survival.

We solicit public review and comment on each of these recovery permit applications. Our practice is to make comments, including names and home addresses of respondents, available for public review during regular business hours. Individual respondents may request that we withhold their home addresses from the record, which we will honor to the extent allowable by law. There also may be circumstances in which we would withhold from the record a respondent's identity, as allowable by law. If you wish us to withhold your name and/or address, you must state this prominently at the beginning of your comment, but you should be aware that we may be required to disclose your name and address pursuant to the Freedom of Information Act. However, we will not consider anonymous comments. We will make all submissions from organizations or businesses, and from individuals identifying themselves as representatives or officials of organizations or businesses, available for public inspection in their entirety. Comments and materials received will be available for public inspection, by appointment, during normal business hours at the above address.

Dated: September 7, 2006.
Michael Fris,
Acting Manager, California/Nevada Operations Office, U.S. Fish and Wildlife Service.

[FR Doc. E6-15704 Filed 9-25-06; 8:45 am]

BILLING CODE 4310-55-P